DEPARTMENT OF ENERGY

10 CFR Part 430

[EERE-2017-BT-TP-0004]

RIN 1904-AD84

Energy Conservation Program: Test Procedures for Consumer Refrigerators, Refrigerator-Freezers, and Freezers

AGENCY: Office of Energy Efficiency and Renewable Energy, Department of Energy.

ACTION: Extension of public comment period.

SUMMARY: On December 23, 2019, the U.S. Department of Energy (“DOE”) published a test procedure notice of proposed rulemaking (“NOPR”) for consumer refrigeration products. The NOPR stated that written public comments would be accepted until February 21, 2020. On January 27, 2020, DOE received a joint request from the Northwest Energy Efficiency Alliance (NEEA), the Natural Resources Defense Council (NRDC), and Pacific Gas and Electric Company (PG&E) to extend the comment period for the NOPR by 60 days so that the data their teams are collecting and analyzing could be submitted to the docket and considered by the DOE. On February 5, 2020, DOE received a request from the Association of Home Appliance Manufacturers (AHAM) to extend the comment period for the Test Procedure NOPR for Consumer Refrigeration Products by 30 days. DOE has reviewed this request and will be granting a 45 day extension of the public comment period until April 6, 2020.

DATES: The comment period for the NOPR published on December 23, 2019 (84 FR 70842), is extended. DOE will accept comments, data, and information regarding this request for information received no later than April 6, 2020.

ADDRESSES: Interested persons are encouraged to submit comments using the Federal eRulemaking Portal at http://www.regulations.gov. Follow the instructions for submitting comments. Alternatively, interested persons may submit comments, identified by docket number EERE-2017-BT-TP-0004, by any of the following methods:

1. Federal eRulemaking Portal: http://www.regulations.gov. Follow the instructions for submitting comments.

2. Email: ConsumerRefrigFreezer2017TP0004@ee.doe.gov. Include the docket number EERE-2017-BT-TP-0004 in the subject line of the message.

3. Postal Mail: Appliance and Equipment Standards Program, U.S. Department of Energy, Building Technologies Office, Mailstop EE-5B, 1000 Independence Avenue SW, Washington, DC 20585-0121. Telephone: (202) 287-1445. If possible, please submit all items on a compact disc (“CD”), in which case it is not necessary to include printed copies.

4. Hand Delivery/Courier: Appliance and Equipment Standards Program, U.S. Department of Energy, Building Technologies Office, 950 L'Enfant Plaza SW, 6th Floor, Washington, DC 20024. Telephone: (202) 287-1445. If possible, please submit all items on a CD, in which case it is not necessary to include printed copies.

No telefacsimilies (faxes) will be accepted. For detailed instructions on submitting comments and additional information on this process, see section III of this document.

Docket: The docket for this activity, which includes Federal Register notices, comments, and other supporting documents/materials, is available for review at http://www.regulations.gov. All documents in the docket are listed in the http://www.regulations.gov index. However, some documents listed in the index, such as those containing information that is exempt from public disclosure, may not be publicly available.

The docket web page can be found at http://www.regulations.gov/#!docketDetail;D=EERE-2017-BT-TP-0004. The docket web page contains instructions on how to access all documents, including public comments in the docket. See section III for information on how to submit comments through http://www.regulations.gov.

FOR FURTHER INFORMATION CONTACT: Dr. Stephanie Johnson, U.S. Department of Energy, Office of Energy Efficiency and Renewable Energy, Building Technologies Office, EE-5B, 1000 Independence Avenue SW, Washington, DC 20585-0121. Telephone: (202) 287-1943. Email: ApplianceStandardsQuestions@ee.doe.gov.

Mr. Pete Cochran, U.S. Department of Energy, Office of the General Counsel, GC-33, 1000 Independence Avenue SW, Washington, DC 20585-0121. Telephone: (202) 586-9496. Email: Peter.Cochran@hq.doe.gov.

For further information on how to submit a comment, review other public comments and the docket, contact the Appliance and Equipment Standards Program staff at (202) 287-1445 or by email: ApplianceStandardsQuestions@ee.doe.gov.

Signed in Washington, DC, on February 6, 2020.
Alexander N. Fitzsimmons,
Acting Deputy Assistant Secretary for Energy Efficiency, Energy Efficiency and Renewable Energy.

[FR Doc. 2020-03230 Filed 2-18-20; 8:45 am]

BILLING CODE 6450-01-P